DEPARTMENT OF ENERGY

Federal Energy Regulatory Commission

[Docket No. CP00-114-000]

Trunkline Gas Company; Notice of Availability of the Environmental Assessment for the Proposed Line 100-1 Abandonment Project

January 29, 2001.

The staff of the Federal Energy Regulatory Commission (FERC or Commission) has prepared an environmental assessment (EA) on the natural gas pipeline facilities proposed for abandonment by Trunkline Gas Company (Trunkline) in the above-referenced docket.

The EA was prepared to satisfy the requirements of the National Environmental Policy Act. The staff concludes that approval of the proposed Line 100-1 Abandonment Project, with appropriate mitigating measures, would not constitute a major Federal action significantly affecting the quality of the human environment.

The EA assesses the potential environmental effects of abandoning 719.5 miles of Trunkline's Line 100-1 pipeline. The 26-inch-diameter Line 100-1 extends from Douglas County, Illinois through Kentucky, Tennessee, Arkansas, and Mississippi, and terminates in Beauregard Parish, Louisiana. Abandonment activities would involve minor ground disturbing activities at 147 sites along Line 100-1 to disconnect it from the other two pipelines on this portion of Trunkline's system. The majority of the work would be conducted at existing compressor station and meter station sites or within Trunkline's existing right-of-way. About 67 acres would be disturbed by these activities.

Following its abandonment, Line 100-1 would be transferred to Trunkline's affiliate, CMS Trunkline Pipeline Holdings, Inc. (TPH). TPH has entered into an agreement with Centennial Pipeline (a joint venture between Texas Eastern Products Pipeline Company, L.P. [TEPPCO] and Marathon Ashland Petroleum, L.L.C. [Marathon] to convert and jointly operate the pipeline to transport refined petroleum products from the Texas-Louisiana Gulf Coast area to the Midwest. Although the conversion and related construction activities proposed by Centennial Pipeline (Centennial) are beyond the Commission's regulatory jurisdiction, the EA identifies the location and status of Centennial's proposed facilities, any known environmental impacts, and the agencies responsible for issuing permits for Centennial's project.

Once Line 100-1 has been disconnected from Trunkline's system, Centennial plans to conduct the following activities to convert Line 100-1 and develop its refined petroleum transportation system:

• Construct taps, valves, and other minor appurtenant facilities at 171 work sites (101 of which would also be affected by Trunkline's abandonment activities);

• Construct six new pump stations adjacent to Line 100-1;

• Construct about 75 miles of new 24-inch-diameter pipeline extending from TEPPCO's existing Beaumont, Texas breakout storage terminal (BST) to the southern end of Line 100-1 near Longville, Louisiana;

• Construct a new 2.57-million-barrel BST near Creal Springs, Illinois ¹; and

¹ Centennial began site work at its Creal Springs BST in October 2000. Foundation work is scheduled to begin at the site in late January 2001.

• Construct an interconnect to Marathon's existing pipeline system near Effingham, Illinois.

The EA has been placed in the public files of the FERC. A limited number of copies of the EA are available for distribution and public inspection at: Federal Energy Regulatory Commission, Public Reference and Files Maintenance Branch, 888 First Street, NE, Room 2A, Washington, DC 20426, (202) 208-1371.

Copies of the EA have been mailed to Federal, state and local agencies, public interest groups, interested individuals, newspapers, and parties to this proceeding.

Any person wishing to comment on the EA may do so. To ensure consideration prior to a Commission decision on the proposal, it is important that we receive your comments before the date specified below. Please carefully follow these instructions to ensure that your comments are received in time and properly recorded:

• Send an original and two copies of your comments to: Secretary, Federal Energy Regulatory Commission, 888 First Street, NE, Room 1A, Washington, DC 20426;

• Label one copy of the comments for the attention of the Gas Group 1, PJ-11.1;

• Reference Docket No. CP00-114-000; and

• Mail your comments so that they will be received in Washington, DC on or before February 26, 2001.

Comments may also be filed electronically via the Internet in lieu of paper. See 18 CFR 385.2001(a)(1)(iii) and the instructions on the Commission's web site at http://www.ferc.fed.us/efi/doorbell.htm under the link to the User's Guide. Before you can file comments you will need to create an account which can be created by clicking on “Login to File” and then “New User Account.”

Comments will be considered by the Commission but will not serve to make the commenter a party to the proceeding. Any person seeking to become a party to the proceeding must file a motion to intervene pursuant to rule 214 of the Commission's Rules of Practice and Procedures (18 CFR 385.214). Only intervenors have the right to seek rehearing of the Commission's decision.

Affected landowners and parties with environmental concerns may be granted intervenor status upon showing good cause by stating that they have a clear and direct interest in this proceeding which would not be adequately represented by any other parties. You do not need intervenor status to have your comments considered.

Additional information about the proposed project is available from the Commission's Office of External Affairs, at (202) 208-1088 or on the FERC Internet website (www.ferc.fed.us) using the “RIMS” link to information in this docket number. Click on the “RIMS” link, select “Docket#” from the RIMs Menu, and follow the instruction. For assistance with access to RIMS, the RIMS helpline can be reached at (202) 208-2222.

Similarly, the “CIPS” link on the FERC Internet website provides access to the texts of formal documents issued by the Commission, such as orders, notices, and rulemakings. From the FERC Internet website, click on the “CIPS” link, select “Docket #” from the CIPS menu, and follow the instructions. For assistance with access to CIPS, the CIPS helpline can be reached at (202) 208-2474.

David P. Boergers,
Secretary.

[FR Doc. 01-2836 Filed 2-01-01; 8:45 am]

BILLING CODE 6717-01-M